DEPARTMENT OF HEALTH AND HUMAN SERVICES

Administration for Children and Families

Family Violence Prevention and Services/Grants for Domestic Violence Shelters and Supportive Services/Grants to States

AGENCY: Family and Youth Services Bureau (FYSB), Administration on Children, Youth, and Families (ACYF), ACF.

ACTION: This notice was originally published as Funding Opportunity Number HHS-2012-ACF-ACYF-FVPS-0272 on February 23, 2012 at http://www.acf.hhs.gov/grants/open/foa/view/HHS-2012-ACF-ACYF-FVPS-0272.

This announcement governs the proposed award of mandatory grants under the Family Violence Prevention and Services Act (FVPSA) to States (including Territories and Insular Areas). The purpose of these grants is to: (1) Assist States in efforts to increase public awareness about, and primary and secondary prevention of, family violence, domestic violence, and dating violence; and (2) assist States in efforts to provide immediate shelter and supportive services for victims of family violence, domestic violence, or dating violence (Section 301(b)(1-2)) of the FVPSA, as amended by Section 201 of the Child Abuse Prevention and Treatment Act (CAPTA) Reauthorization Act of 2010, Public Law 111-320.

This announcement sets forth the application requirements, the application process, and other administrative and fiscal requirements for grants in Fiscal Year (FY) 2012.

C.F.D.A. Number: 93.671.

Statutory Authority: The statutory authority for this program is Sections 301-313 of the Family Violence Prevention and Services Act, as amended by Section 201 of the CAPTA Reauthorization Act of 2010, Public Law 111-320, hereinafter cited by Section number only.

SUMMARY:

I. Funding Opportunity Description

Description

Background

The Administration on Children, Youth and Families (ACYF) is committed to facilitating healing and recovery, and promoting the social and emotional well-being of victims, children, youth, and families who have experienced domestic violence, maltreatment, exposure to violence, and trauma. An important component of promoting well-being in this regard includes addressing the impact of trauma which can have profound impacts on coping, resiliency, and skill development. ACYF promotes a trauma-informed approach, which involves understanding and responding to the symptoms of chronic interpersonal trauma and traumatic stress across the lifespan.

This FVPSA funding opportunity announcement (FOA), administered through ACYF's Family and Youth Services Bureau (FYSB), is designed to assist States in their efforts to support the establishment, maintenance, and expansion of programs and projects: (1) To prevent incidents of family violence, domestic violence, and dating violence; (2) to provide immediate shelter, supportive services, and access to community-based programs for victims of family violence, domestic violence, or dating violence, and their dependents; and (3) to provide specialized services for children exposed to family violence, domestic violence, or dating violence, underserved populations, and victims who are members of racial and ethnic minority populations (Section 306(a)).

The FVPSA State Formula Grant funds shall be used to identify and provide subgrants to eligible entities for programs and projects within the State that are designed to prevent incidents of family violence, domestic violence, and dating violence by providing immediate shelter and supportive services for adult and youth victims of family violence, domestic violence, or dating violence, and their dependents, and which may be used to provide prevention services to prevent future incidents of family violence, domestic violence, and dating violence (Section 308(a)).

FVPSA funds awarded to subgrantees should be used for:

• Provision of immediate shelter and related supportive services to adult and youth victims of family violence, domestic violence, or dating violence, and their dependents, including paying for the operating and administrative expenses of the facilities for a shelter (Section 308(b)(1)(A)).

• Assistance in developing safety plans, and supporting efforts of victims of family violence, domestic violence, or dating violence to make decisions related to their ongoing safety and well-being (Section 308(b)(1)(B)).

• Provision of individual and group counseling, peer support groups, and referral to community-based services to assist family violence, domestic violence, and dating violence victims, and their dependents, in recovering from the effects of the violence (Section 308(b)(1)(C)).

• Provision of services, training, technical assistance, and outreach to increase awareness of family violence, domestic violence, and dating violence, and increase the accessibility of family violence, domestic violence, and dating violence services (Section 308(b)(1)(D)).

• Provision of culturally and linguistically appropriate services (Section 308(b)(1)(E)).

• Provision of services for children exposed to family violence, domestic violence, or dating violence, including age-appropriate counseling, supportive services, and services for the nonabusing parent that support that parent's role as a caregiver, which may, as appropriate, include services that work with the nonabusing parent and child together (Section 308(b)(1)(F)).

• Provision of advocacy, case management services, and information and referral services, concerning issues related to family violence, domestic violence, or dating violence intervention and prevention, including: (1) Assistance in accessing related Federal and State financial assistance programs; (2) legal advocacy to assist victims and their dependents; (3) medical advocacy, including provision of referrals for appropriate health care services (including mental health, alcohol, and drug abuse treatment), which does not include reimbursement for any health care services; (4) assistance locating and securing safe and affordable permanent housing and homelessness prevention services; (5) transportation, child care, respite care, job training and employment services, financial literacy services and education, financial planning, and related economic empowerment services; and (6) parenting and other educational services for victims and their dependents (Section 308(b)(1)(G)).

• Provision of prevention services, including outreach to underserved populations (Section 308(b)(1)(H)).

In the distribution of FVPSA grant funds, the State should ensure that not less than 70 percent of the funds distributed are used for the primary purpose of providing immediate shelter and supportive services to adult and youth victims of family violence, domestic violence, or dating violence, and their dependents; not less than 25 percent of the funds will be used for the purpose of providing supportive services and prevention services (Section 308(b)(2)); and not more than 5 percent of the FVPSA grant funds should be used for State administrative costs (Section 306(b)(1)).

Ensuring the Well-Being of Vulnerable Children and Families

The Administration on Children, Youth and Families is committed to facilitating healing and recovery, and promoting the social and emotional well-being of children, youth, and families who have experienced maltreatment, exposure to violence, and/or trauma. This funding announcement and other discretionary spending this fiscal year are designed to ensure that effective interventions are in place to build skills and capacities that contribute to the healthy, positive, and productive functioning of families.

Children, youth, and families who have experienced maltreatment, exposure to violence, and/or trauma are impacted along several domains, each of which must be addressed in order to foster social and emotional well-being and promote healthy, positive functioning:

• Understanding Experiences: A fundamental aspect of the human experience is the development of a world view through which one's experiences are understood. Whether that perspective is generally positive or negative impacts how experiences are interpreted and integrated. For example, one is more likely to approach a challenge as a surmountable, temporary obstacle if his or her frame includes a sense that “things will turn out alright.” On the contrary, negative experiences can color how future experiences are understood. Ongoing exposure to family violence might lead children, youth, and adults to believe that relationships are generally hostile in nature and affect their ability to enter into and stay engaged in safe and healthy relationships. Interventions should seek to address how children, youth, and adults frame what has happened to them in the past and shape their beliefs about the future.

• Developmental Tasks: People grow physically and psychosocially along a fairly predictable course, encountering normal challenges and establishing competencies as they pass from one developmental stage to another. However, adverse events have a marked effect on the trajectory of normal social and emotional development, delaying the growth of certain capacities, and, in many cases, accelerating the maturation of others. Intervention strategies must be attuned to the developmental impact of negative experiences and address related strengths and deficits to ensure children, youth, and families develop along a healthy trajectory.

• Coping Strategies: The methods that children, youth, and families develop to manage challenges both large and small are learned in childhood, honed in adolescence, and practiced in adulthood. Those who have been presented with healthy stressors and opportunities to overcome them with appropriate encouragement and support are more likely to have an array of positive, productive coping strategies available to them as they go through life. For children, youth, and families who grow up in or currently live in unsafe, unpredictable environments, the coping strategies that may have been protective in that context may not be appropriate for safer, more regulated situations. Interventions should help children, youth, and families transform maladaptive coping methods into healthier, more productive strategies.

• Protective Factors: A wealth of research has demonstrated that the presence of certain contextual factors (e.g., supportive relatives, involvement in after-school activities) and characteristics (e.g., self-esteem, relationship skills) can moderate the impacts of past and future negative experiences. These protective factors are fundamental to resilience; building them is integral to successful intervention with children, youth, and families.

The skills and capacities in these areas support children, youth, and families as challenges, risks, and opportunities arise. In particular, each domain impacts the capacity of children, youth, and families to establish and maintain positive relationships with caring adults and supportive peers. The necessity of these relationships to social and emotional well-being and lifelong success in school, community, and at home cannot be overstated and should be central to all interventions with vulnerable children, youth, and families.

An important component of promoting social and emotional well-being includes addressing the impact of trauma, which can have a profound effect on the overall functioning of children, youth, and families. The Administration on Children, Youth and Families promotes a trauma-informed approach, which involves understanding and responding to the symptoms of chronic interpersonal trauma and traumatic stress across the domains outlined above, as well as the behavioral and mental health sequelae of trauma.

The Administration on Children, Youth and Families anticipates a continued focus on social and emotional well-being as a critical component of its overall mission to ensure positive outcomes for all children, youth, and families.

Annual FVPSA State Administrators Grantee Meeting

FVPSA State Administrators shall plan to attend the annual grantee meeting. The State FVPSA Administrators meeting is a training and technical assistance activity focusing on FVPSA administrative issues as well as the promotion of evidence informed and promising practices to address family violence, domestic violence, or dating violence. Subsequent correspondence will advise the FVPSA State Administrators of the date, time, and location of their grantee meeting.

Client Confidentiality

In order to ensure the safety of adult, youth, and child victims of family violence, domestic violence, or dating violence, and their families, FVPSA-funded programs must establish and implement policies and protocols for maintaining the confidentiality of records pertaining to any individual provided domestic violence services. Consequently, when providing statistical data on program activities and program services, individual identifiers of client records will not be used by the State or other FVPSA grantees or subgrantees (Section 306(c)(5)).

In the annual grantee Performance Progress Report (PPR), States and subgrantees must collect unduplicated data from each program rather than unduplicated data across programs or statewide. No client-level data should be shared with a third party, regardless of encryption, hashing, or other data security measures, without a written, time-limited release as described in section 306(c)(5). The address or location of any FVPSA-supported shelter facility shall, except with written authorization of the person or persons responsible for the operation of such shelter, not be made public (Section 306(c)(5)(H)) and the confidentiality of records pertaining to any individual provided domestic violence services by any FVPSA-supported program will be strictly maintained.

Coordinated and Accessible Services

It is essential that community service providers, including those serving or representing underserved communities, are involved in the design and improvement of intervention and prevention activities. Coordination and collaboration among victim services providers; community-based, culturally specific, and faith-based services providers; housing and homeless services providers; and Federal, State, and local public officials and agencies is needed to provide more responsive and effective services to victims of family violence, domestic violence, and dating violence, and their dependents.

To promote a more effective response to family violence, domestic violence, and dating violence, Department of Health and Human Services (HHS) requires States receiving funds under this grant announcement to collaborate with State Domestic Violence Coalitions, tribes, tribal organizations, service providers, and community-based organizations to address the needs of family violence, domestic violence, and dating violence, and for those who are members of racial and ethnic minority populations and underserved populations (Section 307(a)(2)).

To serve victims most in need and to comply with Federal law, services must be widely accessible to all. Services must not discriminate on the basis of age, disability, sex, race, color, national origin or religion (Section 306(c)(2)). The HHS Office for Civil Rights provides guidance to grantees complying with these requirements. Please see http://www.hhs.gov/ocr/immigration/bifsltr.html for HHS Office of Civil Rights guidance on serving immigrant victims and http://www.hhs.gov/ocr/discrimdisab.html for guidance on the Americans with Disabilities Act and Rehabilitation Act of 1973. Services must also be provided on a voluntary basis; receipt of emergency shelter or housing must not be conditioned on participation in supportive services (Section 308(d)(2)).

Definitions

States should use the following definitions in carrying out their programs (Section 302).

Dating Violence: Violence committed by a person who is or has been in a social relationship of a romantic or intimate nature with the victim and where the existence of such a relationship shall be determined based on a consideration of the length of the relationship, the type of relationship, and the frequency of interaction between the persons involved in the relationship.

Domestic Violence: Felony or misdemeanor crimes of violence committed by a current or former spouse of the victim, by a person with whom the victim shares a child in common, by a person who is cohabitating with or has cohabitated with the victim as a spouse, by a person similarly situated to a spouse of the victim under the domestic or family violence laws of the jurisdiction receiving grant monies, or by any other person against and adult or youth victim who is protected from that person's acts under the domestic or family violence laws of the jurisdiction.

Family Violence: Any act or threatened act of violence, including any forceful detention of an individual that: (a) results or threatens to result in physical injury; and (b) is committed by a person against another individual (including an elderly individual) to or with whom such person: Is related by blood, or is or was related by marriage or is or was otherwise legally related, or is or was lawfully residing.

Shelter: The provision of temporary refuge and supportive services in compliance with applicable State law (including regulation) governing the provision, on a regular basis, of shelter, safe homes, meals, and supportive services to victims of family violence, domestic violence, or dating violence, and their dependents.

Supportive Services: Services for adult and youth victims of family violence, domestic violence, or dating violence, and dependents exposed to family violence, domestic violence, or dating violence, that are designed to:

• Meet the needs of victims of family violence, domestic violence, or dating violence, and their dependents, for short-term, transitional, or long-term safety; and

• Provide counseling, advocacy, or assistance for victims of family violence, domestic violence, or dating violence, and their dependents.

II. Award Information

For FY 2012, HHS will make available for grants to designated State agencies 70 percent of the amount appropriated under section 303(a)(1) of FVPSA, which is not reserved under Section 303(a)(2). In FY 2011, ACYF awarded $90,335,158 to State agencies for these purposes. In separate announcements, ACYF will allocate 10 percent of the foregoing appropriation to tribes and tribal organizations for the establishment and operation of shelters, safe houses, and the provision of supportive services; and 10 percent to the State Domestic Violence Coalitions to continue their work within the domestic violence community by providing technical assistance and training, needs assessment, and advocacy services, among other activities with local domestic violence programs, and to encourage appropriate responses to domestic violence within the States. Six percent of the amount appropriated under section 303(c) of FVPSA, and reserved under section 303(a)(2)(c), will be available in FY 2012 to continue the support for the two National Resource Centers (NRCs), four Special Issue Resource Centers (SIRCs) and the three Culturally Specific Special Issue Resource Centers (CSSIRCs). Additionally, funds appropriated under FVPSA will be used to support other activities, including training and technical assistance, collaborative projects with advocacy organizations and service providers, data collection efforts, public education activities, research and other demonstration projects, as well as the ongoing operation of the National Domestic Violence Hotline.

State Allocation

FVPSA grants to the States, the District of Columbia, and the Commonwealth of Puerto Rico are based on a population formula. Each State grant shall be $600,000, with the remaining funds allotted to each State on the same ratio as the population of the State to the population of all States (Section 305(a)(2)). State populations are determined on the basis of the most recent census data available to the Secretary of HHS, and the Secretary shall use for such purpose, if available, the annual current interim census data produced by the Secretary of Commerce pursuant to section 181 of Title 13 of the U.S. Code.

For the purpose of computing allotments, the statute provides that Guam, American Samoa, the Virgin Islands, and the Commonwealth of the Northern Mariana Islands will each receive grants of not less than one-eighth of one percent of the amount appropriated for formula grants to States (Section 305(a)(1)).

Expenditure Period

FVPSA funds may be used for expenditures on and after October 1 of each fiscal year for which they are granted, and will be available for expenditure through September 30 of the following fiscal year, i.e., FY 2012 funds may be used for expenditures from October 1, 2011, through September 30, 2013. Funds will be available for obligations only through September 30, 2013, and must be liquidated by December 30, 2013.

Re-allotted funds, if any, are available for expenditure until the end of the fiscal year following the fiscal year that the funds became available for re-allotment. FY 2012 grant funds that are made available to the States through re-allotment, under section 305(d), must be expended by the State no later than September 30, 2013.

III. Eligibility Information

“States”, as defined in section 302 of FVPSA, are eligible to apply for funds. The term “State” means each of the 50 States, the District of Columbia, the Commonwealth of Puerto Rico, Guam, American Samoa, the Virgin Islands, and the Commonwealth of the Northern Mariana Islands.

In the past, Guam, the Virgin Islands, the Commonwealth of the Northern Mariana Islands, and American Samoa have applied for funds as a part of their consolidated grant under the Social Services Block grant. These jurisdictions need not submit an application under this program announcement if they choose to have their allotment included as part of a consolidated grant application; however, they are required to submit a Performance Progress Report using the standardized format.

Additional Information on Eligibility

DUNS (Universal Identifier Number) Requirement

Data Universal Numbering System (DUNS) Number is the nine-digit, or thirteen-digit (DUNS + 4), number established and assigned by Dun and Bradstreet, Inc. (D&B) to uniquely identify business entities.

All applicants and sub-recipients must have a DUNS number at the time of application in order to be considered for a grant or cooperative agreement. A DUNS number is required whether an applicant is submitting a paper application or using the Government-wide electronic portal, www.Grants.gov. A DUNS number is required for every application for a new award or renewal/continuation of an award, including applications or plans under formula, entitlement, and block grant programs. A DUNS number may be acquired at no cost online at http://fedgov.dnb.com/webform. To acquire a DUNS number by phone, contact the D&B Government Customer Response Center: U.S. and U.S Virgin Islands: 1-866-705-5711, Alaska and Puerto Rico: 1-800-234-3867 (Select Option 2, then Option 1), Monday-Friday 7 a.m. to 8 p.m., CST.

The process to request a D-U-N-S Number by telephone will take between 5 and 10 minutes.

Central Contractor Registration (CCR) Requirement

Central Contractor Registration (CCR) is the Federal registrant database and repository into which an entity must provide information required for the conduct of business as a recipient. CCR, managed by the General Services Administration, collects, validates, stores, and disseminates data in support of agency financial assistance missions.

Effective October 1, 2011 HHS required all entities that plan to apply for, and ultimately receive, Federal grant funds from any HHS Agency, or receive sub-awards directly from recipients of those grant funds to:

• Be registered in the CCR prior to submitting an application of plan;

• Maintain an active CCR registration with current information at all times during which it has an active award or an application or plan under consideration by an OPDIV; and

• Provide its DUNS number in each application or plan it submits to the OPDIV.

ACF is prohibited from making an award until an applicant has complied with these requirements. At the time an award is ready to be made, if the intended recipient has not complied with these requirements, ACF:

• May determine that the applicant is not qualified to receive an award; and

• May use that determination as a basis for making an award to another applicant.

Additionally, all first-tier sub-award recipients (i.e., direct sub-recipient) must have a DUNS number at the time the sub-award is made.

CCR registration may be made online at www.ccr.gov or by phone at 1-866-606-8220. CCR registration must be updated annually. CCR registration must be active and maintained with current information at all times during which an organization has an active award or an application under consideration.

Applicants are strongly encouraged to register at the CCR well in advance of the application due date.

IV. Application Requirements

Content of Application Submission

The State's application must be submitted by the chief executive officer of the State must contain the following information or documentation (Section 307(a)(1)):

(1) The name and complete address of the State agency; the name and contact information for the official designated as responsible for the administration of FVPSA programs and activities relating to family violence, domestic violence, and dating violence that are carried out by the State and for coordination of related programs within the State; the name and contact information for a contact person if different from the designated official (Section 307(a)(2)(G)).

(2) A plan describing how the State will involve community-based organizations whose primary purpose is to provide culturally appropriate services to underserved populations, including how such community-based organizations can assist the State in addressing the unmet needs of such populations (Section 307(a)(2)(E)).

(3) A plan describing how the State will provide specialized services including trauma-informed services for children exposed to family violence, domestic violence, or dating violence, underserved populations and victims who are members of racial and ethnic minority populations (Section 306(a)(3)).

(4) A plan describing in detail how the needs of underserved populations will be met (Section 306(a)(3)). “Underserved populations” include populations underserved because of geographic location (such as rural isolation), underserved racial and ethnic populations, populations underserved because of special needs (such as language barriers, disabilities, immigration status, or age), and any other population determined to be underserved by the State planning process or the Secretary of HHS (Section 302(14)). The State plan should:

(a) Identify which populations in the State are currently underserved, and the process used to identify underserved population; describe those that are being targeted for outreach and services; and provide a brief explanation of why those populations were selected to receive outreach and services.

(b) Describe the outreach plan, including the domestic violence training to be provided, the means for providing technical assistance and support, and the leadership role played by those representing and serving the underserved populations in question.

(c) Describe the specific services to be provided or enhanced, including new shelters or services, improved access to shelters or services, or new services for underserved populations such as victims from communities of color; immigrant victims; lesbian, gay, bisexual, or transgender (LGBT) individuals; adolescents; at-risk youth or victims with disabilities.

(5) Include a description of how the State plans to use the grant funds; a description of the target populations; the number of shelters to be funded; the number of non-residential programs to be funded; the services the State will provide; and the expected results from the use of the grant funds as required by Sections 307(a)(2)(F) and 308(b).

(6) Describe the plan to assure an equitable distribution of grants and grant funds within the State and between urban and rural areas within such State (Section 307(a)(2)(C)).

(7) Provide complete documentation of consultation with and participation of the State Domestic Violence Coalition in the planning and monitoring of the distribution of grants and the administration of grant programs and projects (Section 307(a)(2)(D)).

(8) Provide complete documentation of policies, procedures, and protocols that ensure individual identifiers of client records will not be used when providing statistical data on program activities and program services; the confidentiality of records pertaining to any individual provided family violence prevention services by any FVPSA-supported program will be maintained; and the address or location of any FVPSA-supported shelter will not be made public without the written authorization of the person or persons responsible for the operation of such shelter (Sections 307(a)(2)(A) and 306(c)(5)).

(9) Provide a copy of the law or procedures, such as a process for obtaining an order of protection, that the State has implemented for the barring of an abusive spouse from a shared household (Section 307(a)(2)(H)).

Note: As required by the Paperwork Reduction Act of 1995 (Pub. L. 104-13), public reporting burden for this collection of information is estimated to average 10-hours per response, including the time for reviewing instructions, gathering and maintaining the data needed, and reviewing the collection information. The project description is approved under the Office of Management and Budget (OMB) control number 0970-0280. An agency may not conduct or sponsor, and a person is not required to respond to, a collection of information unless it displays a currently valid OMB control number.

Assurances

Each application must provide signed copy of the assurances (See Appendix A).

Certifications

All applications must submit or comply with the required certifications found in the Appendices as follows:

Certification Regarding Lobbying

(See Appendix B): Applicants must furnish an executed copy of the Certification Regarding Lobbying, prior to the award of the grant.

Standard Form (SF)-LLL Disclosure of Lobbying Activities

The filing of this form is required for each payment or agreement to make payment to any lobbying entity for influencing or attempting to influence an officer or employee of an agency, a Member of Congress, an officer or employee of Congress, or an employee of a Member of Congress in connection with a covered Federal action.

This disclosure form must be completed and filed by the reporting entity, whether subawardees or prime Federal recipient, at the initiation or receipt of a covered Federal action, or a material change to a previous filing, pursuant to title 31 U.S.C. 1352.

Intergovernmental Review of Federal Programs

For States, this program is covered under Executive Order 12372, “Intergovernmental Review of Federal Programs,” for State plan consolidation and implication only—45 CFR 100.12. The review and comment provisions of the Executive Order and Part 100 do not apply.

Application Submission

Applications should be sent or delivered to: Administration on Children, Youth and Families, Administration for Children and Families, Family and Youth Services Bureau, Family Violence Prevention and Services Program, Attn: Edna James, 1250 Maryland Avenue SW., Suite 8214, Washington, DC 20024.

V. Approval/Disapproval of a State Application

The Secretary of HHS will approve any application that meets the requirements of FVPSA and this announcement and will not disapprove any such application except after reasonable notice of the Secretary's intention to disapprove has been provided to the applicant and after a 6-month period providing an opportunity for the applicant to correct any deficiencies. The notice of intention to disapprove will be provided to the applicant within 45 days of the date of the application.

VI. Reporting Requirements

Performance Reports

States are required to submit an annual performance report to ACYF describing the activities carried out, and an assessment of the effectiveness of those activities in achieving the purposes of the grant (Section 306(d)). Further guidance regarding the assessment requirement is included in the PPR. A section of this performance report must be completed by each grantee or subgrantee that provided program services and activities. State-grantees should compile subgrantee performance reports into a comprehensive report for submission. A copy of the required PPR can be found at www.acf.hhs.gov/programs/ofs/forms.htm.

In the past, Guam, the Virgin Islands, the Commonwealth of the Northern Mariana Islands, and American Samoa have applied for FVPSA funds as a part of their consolidated grant under the Social Services Block grant. These jurisdictions need not submit an application under this program announcement if they choose to have their allotment included as part of a consolidated grant application; however, they are required to submit an annual PPR using the standardized format.

PPRs for the States and Territories are due on an annual basis at the end of the calendar year (December 29). PPRs should be sent to: Administration on Children, Youth and Families, Administration for Children and Families, Family and Youth Services Bureau, Family Violence Prevention and Services Program, Attn: Edna James, 1250 Maryland Avenue SW., Room 8214, Washington, DC 20024.

Please note that section 307(b)(4) of FVPSA requires HHS to suspend funding for an approved application if any State applicant fails to submit an annual PPR or if the funds are expended for purposes other than those set forth under this announcement.

Federal Financial Reports (FFR)

Grantees must submit annual Financial Status Reports. The first SF-425A is due December 30, 2012. The final SF-425A is due December 30, 2013. SF-425A can be found at: http://www.whitehouse.gov/omb/grants/grants_forms.html.

Completed reports may be mailed to: Nathaniel West, Division of Mandatory Grants, Office of Grants Management, Administration for Children and Families, 370 L'Enfant Promenade SW., 6th Floor, Washington, DC 20447.

Grantees have the option of submitting their reports online through the Online Data Collection (OLDC) system at the following address: https://extranet.acf.hhs.gov/ssi. Failure to submit reports on time may be a basis for withholding grant funds, or suspension or termination of the grant. All funds reported as unobligated after the obligation period will be recouped.

VII. Administrative and National Policy Requirements

Awards issued under this announcement are subject to the uniform administrative requirements and cost principles of 45 CFR part 74 (Awards and Subawards to Institutions of Higher Education, Hospitals, Other Nonprofit Organizations, and Commercial Organizations) or 45 CFR part 92 (Grants and Cooperative Agreements to State, Local, and Tribal Governments). The Code of Federal Regulations (CFR) is available at http://www.gpo.gov.

An application funded with the release of Federal funds through a grant award, does not constitute, or imply, compliance with Federal regulations. Funded organizations are responsible for ensuring that their activities comply with all applicable Federal regulations.

Equal Treatment for Faith-Based Organizations

Grantees are also subject to the requirements of 45 CFR 87.1(c), Equal Treatment for Faith-Based Organizations, which says, “Organizations that receive direct financial assistance from the [Health and Human Services] Department under any Department program may not engage in inherently religious activities such as religious instruction, worship, or proselytization as part of the programs or services funded with direct financial assistance from the Department.” Therefore, organizations must take steps to completely separate the presentation of any program with religious content from the presentation of the Federally funded program by time or location in such a way that it is clear that the two programs are separate and distinct. If separating the two programs by time but presenting them in the same location, one program must completely end before the other program begins.

A faith-based organization receiving HHS funds retains its independence from Federal, State, and local governments, and may continue to carry out its mission, including the definition, practice, and expression of its religious beliefs. For example, a faith-based organization may use space in its facilities to provide secular programs or services funded with Federal funds without removing religious art, icons, scriptures, or other religious symbols. In addition, a faith-based organization that receives Federal funds retains its authority over its internal governance, and it may retain religious terms in its organization's name, select its board members on a religious basis, and include religious references in its organization's mission statements and other governing documents in accordance with all program requirements, statutes, and other applicable requirements governing the conduct of HHS funded activities.

Regulations pertaining to the Equal Treatment for Faith-Based Organizations, which includes the prohibition against Federal funding of inherently religious activities, “Understanding the Regulations Related to the Faith-Based and Neighborhood Partnerships Initiative” are available at http://www.hhs.gov/partnerships/about/regulations/. Additional information, resources, and are tools for faith-based organizations are available through The Center for Faith-based and Neighborhood Partnerships Web site at http://www.hhs.gov/partnerships/index.html and at the Administration for Children & Families: Toolkit for Faith-based and Community Organizations.

Requirements for Drug-Free Workplace

The Drug-Free Workplace Act of 1988 (41 U.S.C. 701 et seq.) requires that all organizations receiving grants from any Federal agency agree to maintain a drug-free workplace. By signing the application, the Authorizing Official agrees that the grantee will provide a drug-free workplace and will comply with the requirement to notify ACF if an employee is convicted of violating a criminal drug statute. Failure to comply with these requirements may be cause for debarment. Government-wide requirements for Drug-Free Workplace for Financial Assistance are found in 2 CFR part 182; HHS implementing regulations are set forth in 2 CFR 382.400. All recipients of ACF grant funds must comply with the requirements in Subpart B—Requirements for Recipients Other Than Individuals, 2 CFR 382.225. The rule is available at http://ecfr.gpoaccess.gov/cgi/t/text/text-idx?c=ecfr;sid=18b5801410be6af416dc258873ffb7ec;rgn=div2;view=text;node=20091112%3A1.1;idno=49;cc=ecfr.

Debarment and Suspension

HHS regulations published in 2 CFR part 376 implement the government-wide debarment and suspension system guidance (2 CFR part 180) for HHS' non-procurement programs and activities. “Non-procurement transactions” include, among other things, grants, cooperative agreements, scholarships, fellowships, and loans. ACF implements the HHS Debarment and Suspension regulations as a term and condition of award. Grantees may decide the method and frequency by which this determination is made and may check the Excluded Parties List System (EPLS) located at https://www.epls.gov/, although checking the EPLS is not required. More information is available at http://www.acf.hhs.gov/grants/grants_resources.html.

Pro-Children Act

The Pro-Children Act of 2001, 42 U.S.C. 7181 through 7184, imposes restrictions on smoking in facilities where federally funded children's services are provided. HHS grants are subject to these requirements only if they meet the Act's specified coverage. The Act specifies that smoking is prohibited in any indoor facility (owned, leased, or contracted for) used for the routine or regular provision of kindergarten, elementary, or secondary education or library services to children under the age of 18. In addition, smoking is prohibited in any indoor facility or portion of a facility (owned, leased, or contracted for) used for the routine or regular provision of federally funded health care, day care, or early childhood development, including Head Start services to children under the age of 18. The statutory prohibition also applies if such facilities are constructed, operated, or maintained with Federal funds. The statute does not apply to children's services provided in private residences, facilities funded solely by Medicare or Medicaid funds, portions of facilities used for inpatient drug or alcohol treatment, or facilities where WIC coupons are redeemed. Failure to comply with the provisions of the law may result in the imposition of a civil monetary penalty of up to $1,000 per violation and/or the imposition of an administrative compliance order on the responsible entity.

VIII. Funding Restrictions

Costs of organized fund raising, including financial campaigns, endowment drives, solicitation of gifts and bequests, and similar expenses incurred solely to raise capital or obtain contributions, are considered unallowable costs under grants awarded under this announcement.

Construction is not an allowable activity or expenditure under this grant award.

Purchase of real property is not an allowable activity or expenditure under this grant award.

IX. Other Information

Bryan Samuels, Commissioner, Administration on Children, Youth and Families.

Appendices: Required Assurances and Certifications:

A. Assurances of Compliance with Grant Requirements

B. Certification Regarding Lobbying

DATES: The application due date is March 26, 2012.

FOR FURTHER INFORMATION CONTACT: Edna James at (202) 205-7750 or email at: Edna.James@acf.hhs.gov.

Bryan Samuels,
Commissioner, Administration on Children, Youth and Families.

Appendix A

Assurance of Compliance With Grant Requirements

The undersigned grantee certifies that:

(1) Grant funds under the Family Violence Prevention Services Act (FVPSA) will be distributed to local public agencies, or nonprofit private organizations (including faith-based and charitable organizations, community-based organizations, and voluntary associations), that assist victims of family violence, domestic violence, or dating violence (as defined in Section 302(2), (3) and (4), and their dependents, and have a documented history of effective work concerning family violence, domestic violence, or dating violence (Section 308(c)).

(2) Grant funds will be used for programs and projects within the State that are designed to prevent incidents of family violence, domestic violence, and dating violence by providing immediate shelter and supportive services and access to community-based programs for adult and youth victims as well as specialized services for children exposed to domestic violence, underserved populations and those who are members of racial and ethnic minority populations (as defined in Section 306(a)(1-3)).

(3) In distributing the funds, the State will give special emphasis to the support of community-based projects of demonstrated effectiveness carried out by non-profit, private organizations, particularly for those projects where the primary purpose is to operate shelters for victims of family violence, domestic violence, and dating violence, and their dependents or those which provide counseling, advocacy, and self-help services to victims of family violence, domestic violence, and dating violence, and their dependents (Section 307(a)(2)(B)(iii)).

(4) Not less than 70 percent of the funds distributed shall be for the primary purpose of providing immediate shelter and supportive services to adult and youth victims of family violence, domestic violence or dating violence, and their dependents, as described in Section 308(b)(1)(A).

(5) Not less than 25 percent of the funds distributed shall be for the purpose of providing supportive services and prevention services as described in Section 308(b)(1)(B) through (H), to victims of family violence, domestic violence, or dating violence, and their dependents (Section 308(b)(2)).

(6) Not more than five percent of the funds will be used for State administrative costs (Section 307(a)(2)(b)(i)).

(7) The State grantee is in compliance with the statutory requirements of Section 307(a)(2)(C), regarding the equitable distribution of grants and grant funds within the State and between urban and rural areas within the State.

(8) The State will consult with and provide for the participation of the State Domestic Violence Coalition in the planning and monitoring of the distribution of grant funds and the administration of the grant programs and projects (Section 307(a)(2)(D)).

(9) Grant funds made available under this program by the State will not be used as direct payment to any victim of family violence, domestic violence, or dating violence, or to any dependent of such victim (Section 308(d)(1)).

(10) No income eligibility standard will be imposed on individuals with respect to eligibility for assistance or services supported with funds appropriated to carry out the FVPSA. (Section 306(c)(3)).

(11) No fees will be levied for assistance or services provided with funds appropriated to carry out the FVPSA (Section 306(c)(3)).

(12) The address or location of any shelter or facility assisted under the FVPSA that otherwise maintains a confidential location will, except with written authorization of the person or persons responsible for the operation of such shelter, not be made public (Section 306(c)(5)(H)).

(13) The applicant has established policies, procedures and protocols to ensure compliance with the provisions of Section 306(c)(5) regarding non-disclosure of confidential or private information (Section 307(a)(2)(A)).

(14) Pursuant to Section 306(c)(5), additional legal requirements have been added. As the applicant will comply with requirements to ensure the non-disclosure of confidential or private information which include but are not limited to: (1) grantees will not disclose any personally identifying information collected in connection with services requested (including services utilized or denied), through grantee's funded activities or reveal personally identifying information without informed, written, reasonably time-limited consent by the person about whom information is sought, whether for the FVPSA funded activities or any other Federal or State program (additional consent requirements have been omitted but see Section 306(c)(5)(B)(ii)(I) for additional requirements); (2) grantees will not release information compelled by statutory or court order unless adhering to the requirements of Section 306(c)(5)(C); (3) grantees may share non-personally identifying information in the aggregate for the purposes enunciated in Section 306(c)(5)(D)(i) as well as for other purposes found in Section 306(c)(5)(D)(ii) and (iii).

(15) Grants funded by the State in whole or in part with funds made available under the FVPSA will prohibit discrimination on the basis of age, disability, sex, race, color, national origin, or religion as described in Section 306(c)(2).

(16) Funds made available under the FVPSA will be used to supplement and not supplant other Federal, State and local public funds expended to provide services and activities that promote the objectives of the FVPSA (Section 306(c)(6)).

(17) Receipt of supportive services under the FVPSA will be voluntary. No condition will be applied for the receipt of emergency shelter as described in Section 308(d)(2)).

(18) The State grantee has a law or procedure to bar an abuser from a shared household or a household of the abused person, which may include eviction laws or procedures (Section 307(a)(2)(H)).

Signature

Title

Organization

Appendix B

Certification Regarding Lobbying

Title 31, United States Code, Section 1352, entitled “Limitation on use of appropriated funds to influence certain Federal contracting and financial transactions,” generally prohibits recipients of Federal grants and cooperative agreements from using Federal (appropriated) funds for lobbying the Executive or Legislative Branches of the Federal Government in connection with a SPECIFIC grant or cooperative agreement. Section 1352 also requires that each person who requests or receives a Federal grant or cooperative agreement must disclose lobbying undertaken with non-Federal (non-appropriated) funds. These requirements apply to grants and cooperative agreements EXCEEDING $100,000 in total costs (45 CFR part 93).

The undersigned (authorized official signing for the applicant organization) certifies to the best of his or her knowledge and belief, that:

(a) No Federal appropriated funds have been paid or will be paid, by or on behalf of the undersigned, to any person for influencing or attempting to influence an officer or employee of any agency, a Member of Congress, an officer or employee of any agency, a Member of Congress, an officer or employee of Congress, or an employee of a Member of Congress in connection with the awarding of any Federal contract, the making of any Federal grant, the making of any Federal loan, the entering into of any cooperative agreement, and the extension, continuation, renewal, amendment, or modification of any Federal contract, grant, loan, or cooperative agreement.

(b) If any funds other than Federally appropriated funds have been paid or will be paid to any person for influencing or attempting to influence an officer or employee of any agency, a Member of Congress, an officer or employee of Congress, or an employee of a Member of Congress in connection with this Federal contract, grant, loan, or cooperative agreement, the undersigned shall complete and submit Standard Form-LLL, “Disclosure of Lobbying Activities,” in accordance with its instructions.

(c) The undersigned shall require that the language of this certification be included in the award documents for all sub-awards at all tiers (including subcontracts, sub-grants, and contracts under grants, loans and cooperative agreements) and that all sub-recipients shall certify and disclose accordingly.

This certification is a material representation of fact upon which reliance was placed when this transaction was made or entered into. Submission of this certification is a prerequisite for making or entering into this transaction imposed by Section 1352, U.S. Code. Any person who fails to file the required certification shall be subject to a civil penalty of not less than $10,000 and not more than $100,000 for each such failure.

Signature

Title

Organization

[FR Doc. 2012-5823 Filed 3-8-12; 8:45 am]

BILLING CODE 4184-32-P